DEPARTMENT OF TRANSPORTATION

Federal Transit Administration

Alternative Transportation in Parks and Public Lands Program

AGENCY: Federal Transit Administration (FTA), DOT.

ACTION: Alternative Transportation in Parks and Public Lands Program announcement of Project Selections.

SUMMARY: The U.S. Department of Transportation (DOT) Federal Transit Administration (FTA) announces the selection of projects to be funded under Fiscal Year 2006 appropriations for the Alternative Transportation in Parks and Public Lands (ATPPL) program, authorized by Section 3021 of the Safe, Accountable, Flexible, Efficient Transportation Equity Act—A Legacy for Users of 2005 (SAFETEA-LU) and codified in 49 U.S.C. 5320. The ATPPL program funds capital and planning expenses for alternative transportation systems in parks and public lands. Federal land management agencies and State, tribal and local governments acting with the consent of a Federal land management agency are eligible recipients. This is the first year of the ATPPL program. Funding is authorized for this program through FY 2009.

FOR FURTHER INFORMATION CONTACT: Project sponsors who are State, local, or tribal entities may contact the appropriate FTA Regional Administrator (See Appendix A) for grant-specific issues. Project sponsors who are a Federal land management agency or a specific unit of a Federal land management agency should work with the contact listed below at their headquarters office to coordinate the availability of funds to that unit.

• Bureau of Land Management: Linda Force, Linda_Force@blm.gov, 202-557-3567.

• Fish and Wildlife Service: Nathan Caldwell, nathan_caldwell@fws.gov, 703-358-2376.

• Forest Service: Ellen LaFayette, elafayette@fs.fed.us, 703-605-4509.

• National Park Service: Kevin Percival, Kevin_Percival@nps.gov, 303-969-2429.

For general information about the Alternative Transportation in the Parks and Public Lands program, please contact Tina Hodges, Office of Budget and Policy, Federal Transit Administration, tina.hodges@dot.gov, 202-366-4287.

SUPPLEMENTARY INFORMATION: A total of $21,780,000 was appropriated for FTA's Alternative Transportation in the Parks and Public Lands program in Fiscal Year (FY) 2006. Of this amount, a minimum of $19,503,990 was available for project awards; $108,900 was reserved for oversight activities; and up to $2,167,110 was available for planning, technical assistance, research. A total of 78 applicants requested $40.5 million, approximately twice the amount available for projects, indicating high competition for funds. An interagency technical review committee evaluated the project proposals based on the criteria defined in 49 U.S.C. 5320(g)(2). Then, as specified in Section 5320(g), the Secretary of the Interior's designee determined the final selection of projects after consultation with and in cooperation with the Secretary of Transportation's designee. For FY 2006, the program will fund 42 projects totaling $19,631,170.

The goals of the program are to conserve natural, historical, and cultural resources; reduce congestion and pollution; improve visitor mobility and accessibility; enhance visitor experience; and ensure access to all, including persons with disabilities through alternative transportation projects. The projects selected for funding in FY 2006 represent a diverse set of capital and planning projects across the country, ranging from bus purchases to a ferry dock.

Awards
State | Public land unit | Agency | Funding recipient | Type of project | Project description | FY 2006 funding
AK | Chugach National Forest | Forest Service | Alaska Railroad | Railroad | Purchase Diesel Multiple Unit Rail vehicles to provide rail service to recreation areas in Chugach National Forest | $4,700,000
AK | Glacier Bay National Park and Preserve | National Park Service | State of Alaska | Boat Dock | Replace the existing passenger and freight dock | 1,200,000
AZ | Grand Canyon National Park | National Park Service | National Park Service | Bus | Rebuild the Hermits Road Shuttle Bus transfer area | 733,050
CA | Inyo National Forest, Devils Postpile National Monument | Forest Service | Forest Service | Planning Study | Feasibility study for implementation of a sustainable transportation system for Reds Meadow/Devils Postpile | 167,000
CA | Muir Woods National Monument/Golden Gate National Recreation Area | National Park Service | National Park Service | Intelligent Transportation System | Design and build electronic warning signs, traffic counters, highway advisory radio, web cameras, a centralized management software package, and other equipment as necessary | 490,000
CA | Muir Woods National Monument/Golden Gate National Recreation Area | National Park Service | National Park Service | Planning Study | Secure consultant services for planning effort to address visitor access issues at Muir Woods National Monument (managed by Golden Gate National Recreation Area) | 500,000
CA | Point Reyes National Seashore | National Park Service | National Park Service | Planning Study | Fund an implementation feasibility study and financial plan for the upgrade of an existing park shuttle system to an alternate-fuel system for the heavily visited Point Reyes Headlands | 175,000
CA | San Francisco Maritime National Historical Park and Golden Gate National Recreation Area | National Park Service | National Park Service | Planning Study | Planning to extend San Francisco Municipal Railway's Historic streetcars from Fisherman's Wharf 0.85 mile to San Francisco Maritime National Historic Park and the Fort Mason Center at Golden Gate Nat'l Recreation Area | 300,000
CA | Sequoia and Kings Canyon National Park | National Park Service | National Park Service | Bus | Lease busses for the Giant Forest Shuttle and Gateway Shuttle Link to connect key sites within Sequoia National Park lodging, camping, food service facilities, popular day use trails, and features of the world-famous Giant Forest Sequoia grove | 165,000
CA | Sequoia and Kings Canyon National Park | National Park Service | City of Visalia | Bus | Purchase five shuttle busses for the City of Visalia to run a new service from the San Joaquin Valley to popular Sequoia National Park | 400,000
CA | Yosemite National Park | National Park Service | Yosemite Area Regional Transit System (YARTS) | Park and Ride Lot | Construct two park and ride lots to allow visitors to park and use the YARTS service to access the national park, mitigating congestion within the park | 582,579
CA | Yosemite National park | National Park Service | National Park Service | Planning Study | Update traffic, transit, parking, and intersection counts; (2) update existing trip tables; (3) update and complete computer models; (4) evaluate the relationships between transportation and park experience; (5) correlate visitor experience with traffic data | 486,000
CO | Mesa Verde National Park | National Park Service | National Park Service | Planning Study | Fund the remaining planning tasks and allow the Transportation Plan to be completed in early 2007 | 57,868
CO | Rocky Mountain Arsenal National Wildlife Refuge | Fish and Wildlife Service | City of Commerce City | Planning Study | Conduct a shuttle feasibility study that would determine if a shuttle is needed | 40,000
CO | The Maroon Bells—Snowmass Wilderness Area, White River National Forest, Colorado | Forest Service | Roaring Forks Transit Authority | Bus | Purchase four buses to expand transit service to visitors | 1,680,000
FL | Ding Darling National Wildlife Refuge | Fish and Wildlife Service | Lee County Transit | Planning Study | Planning, technical analyses, and coordination of transportation system | 700,000
HI | Hawaii Volcanoes National Park | National Park Service | National Park Service | Planning Study | Data collection/studies and resource surveys for potential alternative transportation system along two primary roads where congestion and over-crowding are causing resource damage and compromising visitor safety and experience | 120,000
ID, WY | Grand Teton National Park | National Park Service | National Park Service | Planning Study | Create a Public Transportation Business Plan for public transportation service in Grand Teton National Park | 99,934
IL | Midewin National Tallgrass Prairie | Forest Service | Forest Service | Planning Study | Develop an alternative transportation system plan for the prairie | 256,600
KS | Tall Grass Prairie National Preserve | National Park Service | National Park Service | Bus | Replace two existing buses used for park tours | 280,000
MA | Cape Cod National Seashore | National Park Service | Cape Cod Regional Transit Authority | Bus/Intelligent Transportation System | Purchase ITS communication equipment to allow timed transfers and coordination of local transit service | 175,000
MA | Cape Cod National Seashore | National Park Service | National Park Service | Planning Study | Define the needs and evaluate alternative satellite maintenance/storage sites for a transit service to be implemented | 200,000
MA | Cape Cod National Seashore | National Park Service | National Park Service | Tram | Replace three trailers for trams to transport visitors to destinations within and near the National Seashore | 400,000
MA | Lowell National Historical Park | National Park Service | National Park Service | Railroad | Address safety issues: (1) signalization of grade crossings, (2) rehabilitate trolley bridge, (3) replace deteriorated railroad ties and substandard rails | 338,000
MA | Parker River National Wildlife Refuge, Essex County National Heritage Area, MA DCR Sandy Point | Fish and Wildlife Service | Essex National Heritage Commission | Planning Study | Develop a plan to complete safe, off-road connections between the Newburyport MBTA Transit Center, the Refuge Headquarters and the Refuge | 95,000
MD | Patuxent Research Refuge | Fish and Wildlife Service | Fish and Wildlife Service | Tram | Rehabilitate existing prototype electric tram and tram tour route | 108,639
ME | Acadia National Park | National Park Service | Maine Department of Transportation | Bus | Purchase two vans with trailers for bicycles for Acadia's Island Explorer transit system, allowing visitors to better access recreation opportunities in the park without private cars | 120,000
ME | Acadia National Park | National Park Service | Maine Department of Transportation | Bus | Replace eight propane powered buses for Acadia's Island Explorer transit system, which connects visitor destinations in the park with campgrounds, motels, and community business districts | 1,400,000
NJ | Gateway National Recreation Area—Sandy Hook | National Park Service | National Park Service | Planning Study | Fund a planning study to assess needs and establish a set of integrated intelligent transportation system (ITS) parking/traveling information systems requirements | 150,000
NY | Roosevelt-Vanderbilt National Historic Sites | National Park Service | National Park Service | Planning Study | Design a three-year phased field-test of an alternative transportation system that links the four park sites with the Town Center and the Poughkeepsie Train Station; structure a regional ATS partnership | 68,000
OH | Cuyahoga Valley National Park | National Park Service | National Park Service | Design | Prepare design documents to allow for upgrade of railroad signals at grade crossings of Cuyahoga Valley Scenic Railroad | 170,000
OH | Cuyahoga Valley National Park | National Park Service | National Park Service | Design | Develop plans to rehabilitate existing rail in Cuyahoga National Park | 185,000
OH | Cuyahoga Valley National Park | National Park Service | National Park Service | Maintenance Vehicle | Purchase a railroad maintenance vehicle to maintain 51 miles of railroad track | 170,000
OH | Cuyahoga Valley National Park | National Park Service | Cuyahoga Valley Scenic Railroad | Railroad | Purchase an additional ADA accessible railcar | 373,000
OR | Lewis and Clark National Historical Park | National Park Service | Sunset Empire Transportation District | Bus | Fund shuttle bus leasing from the park's partner, Sunset Empire Transit District | 50,000
OR | Mt. Hood National Forest | Forest Service | Oregon Department of Transportation | Planning Study | Planning for a new alternative transportation system to provide transportation to and within Mt. Hood National Forest in order to reduce congestion on U.S. Highway 26 | 100,000
PR | San Juan National Historic Site | National Park Service | Codevisa Transit with municipality of San Juan | Bus | Purchase two small trams that would be operated by the municipality of San Juan to provide transportation between the two forts | 640,000
TX | Santa Ana National Wildlife Refuge | Fish and Wildlife Service | Fish and Wildlife Service | Bus | Replace current tram at Santa Ana National Wildlife Refuge | 510,000
VA | Back Bay National Wildlife Refuge | Fish and Wildlife Service | Fish and Wildlife Service | Bus | Purchase two alternative-fueled specialty trams that will replace the antiquated tram system presently used to transport visitors through Back Bay National Wildlife Refuge to adjoining False Cape State Park | 160,000
VA | Shenandoah National Park | National Park Service | National Park Service | Bus | Purchase an ADA accessible bus to replace existing leased vehicle | 60,000
VT | Marsh-Billing-Rockefeller National Historical Park and Town of Woodstock | National Park Service | National Park Service | Planning Study | Perform a fiscal analysis study that will investigate a system to shuttle visitors, including elderly and mobility impaired, from points within the Woodstock community to the park visitor center | 78,500
WA | North Cascades National Park | National Park Service | National Park Service | Bus | Purchase 4 buses to replace old buses that transport visitors within the Lake Chelan National Recreation Area | 947,000
Total |  |  |  |  |  | $19,631,170

Applying for Funds

Recipients who are State or local government entities will be required to apply for ATPPL funds electronically through FTA's electronic grant award and management system, TEAM. The content of these grant applications must reflect the approved proposal. (Note: Applications for the ATPPL program do not require Department of Labor Certification.) Upon grant award, payments to grantees will be made by electronic transfer to the grantee's financial institution through the Electronic Clearing House Operation (ECHO) system. Staff in FTA's Regional offices are available to assist applicants.

Recipients who are Federal land management agencies will be required to enter into an interagency agreement with FTA. FTA will administer one interagency agreement with each Federal land management agency receiving funding through the program for all of that agency's projects. Individual units of Federal land management agencies should work with the contact at their headquarters office listed above to coordinate the availability of funds to that unit.

Program Requirements

Section 5320 requires funding recipients to meet certain requirements. For FY 2006, FTA has developed interim requirements that reflect existing statutory and regulatory provisions. These can be found in the document “Alternative Transportation in Parks and Public Lands Program: Requirements for Recipients of FY 2006 Funding” available at http://www.fta.dot.gov/atppl. These requirements are incorporated into the grant agreements and inter-agency agreements used to fund the selected projects.

Pre-Award Authority

Pre-award authority allows an agency that will receive a grant or interagency agreement to incur certain project costs prior to receipt of the grant or interagency agreement and retain eligibility of the costs for subsequent reimbursement after the grant or agreement is approved. The recipient assumes all risk and is responsible for ensuring that all conditions are met to retain eligibility, including compliance with Federal requirements such as the National Environmental Policy Act (NEPA), SAFETEA-LU planning requirements, and provisions established in the grant contract or Interagency Agreement. This automatic pre-award spending authority, when triggered, permits a grantee to incur costs on an eligible transit capital or planning project without prejudice to possible future Federal participation in the cost of the project or projects. Under the authority provided in 49 U.S.C. 5320(h), FTA is extending pre-award authority for FY 2006 ATTPL projects effective as of August 28, 2006, when the projects were publicly announced.

The conditions under which pre-award authority may be utilized are specified below:

a. Pre-award authority is not a legal or implied commitment that the project(s) will be approved for FTA assistance or that FTA will obligate Federal funds. Furthermore, it is not a legal or implied commitment that all items undertaken by the applicant will be eligible for inclusion in the project(s).

b. All FTA statutory, procedural, and contractual requirements must be met.

c. No action will be taken by the grantee that prejudices the legal and administrative findings that the Federal Transit Administrator must make in order to approve a project.

d. Local funds expended pursuant to this pre-award authority will be eligible for reimbursement if FTA later makes a grant or interagency agreement for the project(s). Local funds expended by the grantee prior to August 28, 2006 will not be eligible for credit toward local match or reimbursement. Furthermore, the expenditure of local funds on activities such as land acquisition, demolition, or construction, prior to the completion of the NEPA process, would compromise FTA's ability to comply with Federal environmental laws and may render the project ineligible for FTA funding.

e. When a grant for the project is subsequently awarded, the Financial Status Report, in TEAM-Web, must indicate the use of pre-award authority, and the pre-award item in the project information section of TEAM should be marked “yes.”

Reporting Requirements

All recipients must submit quarterly milestone/progress reports to FTA containing the following information:

(1) Narrative description of project(s); and,

(2) discussion of all budget and schedule changes.

State and local government entities should submit this information through FTA's TEAM grants management system.

The headquarters office for each Federal land management agency should collect a quarterly report for each of the projects delineated in the interagency agreement and then send these reports (preferably by e-mail) to Henrika Buchanan-Smith, FTA Office of Transit Programs, Henrika.Buchanan-Smith@dot.gov; 202-366-2053; 400 7th St., SW., Room 9315; Washington, DC 20590. Examples can be found on the program Web site at http://www.fta.dot.gov/atppl. The quarterly reports are due to FTA on the dates noted below:

Quarter | Covering | Due date
1st Quarter Report | October 1-December 31 | January 31.
2nd Quarter Report | January 1-March 31 | April 30.
3rd Quarter Report | April 1-June 30 | July 31.
4th Quarter Report | July 1-September 31 | October 31.

In order to allow FTA to compute aggregate program performance measures as required by the President's Management Agenda, FTA requests that all recipients of funding for capital projects under the ATPPL program submit the following information annually:

• Annual visitation to the land unit;

• Annual number of persons who use the alternative transportation system (ridership/usage);

• An estimate of the number of vehicle trips mitigated based on alternative transportation system usage and the typical number of passengers per vehicle;

• Cost per passenger; and,

• A note of any special services offered for those systems with higher costs per passenger but more amenities.

State and local government entities should submit this information as part of their fourth quarter report through FTA's TEAM grants management system.

Federal land management agencies should also send this information as part of their fourth quarter report (preferably by e-mail), to Henrika Buchanan-Smith, FTA, Henrika.Buchanan-Smith@dot.gov; 202-366-5080; 400 7th St., SW.; Room 9315; Washington, DC 20590. Examples can be found on the program Web site at http://www.fta.dot.gov/atppl.

Oversight

Recipients of FY 2006 ATPPL funds will be required to certify that they will comply with all applicable Federal and FTA programmatic requirements. FTA direct grantees will complete this certification as part of the annual Certification and Assurances package, and Federal Land Management Agency recipients will complete the certification by signing the interagency agreement. This certification is the basis for oversight reviews conducted by FTA.

The Secretary of Transportation and FTA have elected not to apply the triennial review requirements of 49 U.S.C. 5307(h)(2) to ATPPL recipients that are other Federal agencies. Instead, working with the existing oversight systems at the Federal Land Management Agencies, FTA will perform periodic reviews of specific projects funded by the ATPPL program. These reviews will ensure that projects meet the basic statutory, administrative, and regulatory requirements as stipulated by this notice and the certification. To the extent possible, these reviews will be coordinated with other reviews of the project. FTA direct grantees of ATPPL funds (State, local and tribal government entities) will be subject to all applicable triennial, State management, civil rights, and other reviews.

Issued in Washington, DC, this 5th day of September, 2006.
James S. Simpson,
Administrator.

Appendix A—FTA Regional Offices

Region I

Connecticut, Maine, Massachusetts, New Hampshire, Rhode Island, and Vermont. Richard Doyle, FTA Regional Administrator, Kendall Square, 55 Broadway, Suite 920, Cambridge, MA 02142-1093, (617) 494-2055.

Region II

New Jersey, New York, and Virgin Islands. Letitia Thompson, FTA Regional Administrator, One Bowling Green, Room 429, New York, NY 10004-1415, (212) 668-2170.

Region III

Delaware, District of Columbia, Maryland, Pennsylvania, Virginia, and West Virginia. Susan Borinsky, FTA Regional Administrator, 1760 Market Street, Suite 500, Philadelphia, PA 19103-4124, (215) 656-7100.

Region IV

Alabama, Florida, Georgia, Kentucky, Mississippi, North Carolina, Puerto Rico, South Carolina, and Tennessee. Yvette Taylor, FTA Regional Administrator, 61 Forsyth Street, SW., Suite 17T50, Atlanta, GA 30303, (404) 562-3500.

Region V

Illinois, Indiana, Michigan, Minnesota, Ohio, and Wisconsin. Marisol Simon, FTA Regional Administrator, 200 West Adams Street, Suite 320, Chicago, IL 60606-5232, (312) 353-2789.

Region VI

Arkansas, Louisiana, New Mexico, Oklahoma, and Texas. Robert Patrick, FTA Regional Administrator, 819 Taylor Street, Room 8A36, Ft. Worth, TX 76102, (817) 978-0550.

Region VII

Iowa, Kansas, Missouri, and Nebraska. Mokhtee Ahmad, FTA Regional Administrator, 901 Locust Street, Suite 404, Kansas City, MO 64106, (816) 329-3920.

Region VIII

Colorado, Montana, North Dakota, South Dakota, Utah, and Wyoming. Lee Waddleton, FTA Regional Administrator, 12300 West Dakota, Suite 310, Lakewood, CO 80228-2583, (720) 963-3300.

Region IX

American Samoa, Arizona, California, Guam, Hawaii, Nevada, and the Northern Mariana Islands. Leslie Rogers, FTA Regional Administrator, 201 Mission Street, Suite 2210, San Francisco, CA 94105-1839, (415) 744-3133.

Region X

Alaska, Idaho, Oregon, and Washington. Richard F. Krochalis, FTA Regional Administrator, Jackson Federal Building, 915 Second Avenue, Suite 3142, Seattle, WA 98174-1002, (206) 220-7954.

[FR Doc. E6-15095 Filed 9-11-06; 8:45 am]

BILLING CODE 4910-57-P